FEDERAL COMMUNICATIONS COMMISSION

47 CFR Part 73

[DA 00-1758, MM Docket No. 00-134, RM-9922]

Radio Broadcasting Services; Brighton, VT

AGENCY: Federal Communications Commission.

ACTION: Proposed rule.

SUMMARY: The Commission requests comments on a petition filed by Linda A. Davidson seeking the allotment of Channel 270A to Brighton, VT, as the community's first local aural service. Channel 270A can be allotted to Brighton in compliance with the Commission's minimum distance separation requirements with a site restriction of 9.8 kilometers (6.1 miles) northwest, at coordinates 44-51-50 NL; 71-57-26 WL, to avoid a short-spacing to Station WPOR-FM, Channel 270B, Portland, ME. Channel 270A at Brighton, at the reference coordinates, will still result in short-spacings to vacant Channel 270A, Victoriaville, Quebec, and vacant Channel 270A at Bedford, Quebec, Canada. Since Brighton is located within 320 kilometers (200 miles) of the U.S.-Canadian border, concurrence in the allotment, as a specially negotiated short-spaced allotment, must be received from the Canadian government.

DATES: Comments must be filed on or before September 25, 2000, and reply comments on or before October 10, 2000.

ADDRESSES: Federal Communications Commission, 445 12th Street, S.W., Room TW-A325, Washington, DC 20554. In addition to filing comments with the FCC, interested parties should serve the petitioner, or its counsel or consultant, as follows: Linda A. Davidson, 2134 Oak Street, Unit C, Santa Monica, CA 90405 (Petitioner).

FOR FURTHER INFORMATION CONTACT: Leslie K. Shapiro, Mass Media Bureau, (202) 418-2180.

SUPPLEMENTARY INFORMATION: This is a synopsis of the Commission's Notice of Proposed Rule Making, MM Docket No. 00-134, adopted July 26, 2000, and released August 4, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-21576 Filed 8-23-00; 8:45 am]

BILLING CODE 6712-01-P